DEPARTMENT OF COMMERCE

Submission for OMB Review: Comment Request

The Department of Commerce will submit to the Office of Management and Budget (OMB) for clearance the following proposal for collection of information under the provisions of the Paperwork Reduction Act of 1995, Public Law 104-13.

Bureau: International Trade Administration (ITA).

Title: Commercial Service—Strategic User Satisfaction Survey.

Agency Form Number: None.

OMB Approval Number: None.

Type of Request: Regular submission.

Burden Hours: 750.

Number of Respondents: 1,500.

Average Time per Response: 30 minutes.

Needs and Uses: The International Trade Administration's U.S. Commercial Service (CS) is mandated by Congress to help U.S. businesses, particularly small and medium-sized companies, export their products and services to global markets. As part of its mission, CS currently uses transactional user satisfaction surveys to collect feedback from U.S. business clients that use CS pay-for-use products/events provided by the organization's domestic and international offices. These surveys request the client to evaluate CS on its customer service delivery for a specific transaction. The results from the surveys are used to ensure that clients' needs and expectations are met and service delivery is consistent across the organization.

In addition to conducting user satisfaction surveys, CS would like to conduct a strategic user satisfaction survey on an annual basis to collect more in-depth user satisfaction feedback from CS clients in order to assess the importance or relative impact of specific service delivery processes and attributes on overall customer satisfaction. Survey responses would enable the CS to prioritize the allocation of time, budget and resources using performance-importance diagrams. Without this information, USFCS is unable to systematically determine the actual and relative levels of performance for attributes, processes and subprocesses, identify the drivers or determinants of overall satisfaction, and provide clear, actionable insights for managerial intervention. This information will be used for program improvement, strategic planning, and allocation of resources.

Affected Public: Business or other for profit organizations; not-for-profit institutions.

Frequency: Annually.

Respondent's Obligation: Voluntary.

OMB Desk Officer: David Rostker, (202) 395-3897.

Copies of the above information collection can be obtained by writing Diana Hynek, Department Paperwork Clearance Officer, Department of Commerce, Room 6625, 14th and Constitution Avenue, NW., Washington, DC 20230 or via e-mail dHynek@doc.gov.

Written comments and recommendations for the proposed information collection should be sent within 30 days of the publication of this notice in the Federal Register to David Rostker, OMB Desk Officer, at David_Rostker@omb.eop.gov or fax (202) 395-7285.

Dated: August 22, 2007.
Gwellnar Banks,
Management Analyst, Office of the Chief Information Officer.

[FR Doc. E7-16966 Filed 8-27-07; 8:45 am]

BILLING CODE 3510-FP-P